DEPARTMENT OF COMMERCE

International Trade Administration

Export Trade Certificate of Review

ACTION: Notice of application to amend an Export Trade Certificate of Review.

SUMMARY: The Office of Export Trading Company Affairs (“OETCA”), International Trade Administration, Department of Commerce, has received an application to amend an Export Trade Certificate of Review (“Certificate”). This notice summarizes the proposed amendment and requests comments relevant to whether the Certificate should be issued.

FOR FURTHER INFORMATION CONTACT: Jeffrey C. Anspacher, Director, Office of Export Trading Company Affairs, International Trade Administration, (202) 482-5131 (this is not a toll-free number) or e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 99-2A005.”

California Almond Export Association, LLC's (“CAEA”) original Certificate was issued on December 27, 1999 (65 FR 760, January 6, 2000) and previously amended on June 25, 2001 (66 FR 34912, July 2, 2001). A summary of the application for an amendment follows.

Summary of the Application

Applicant: California Almond Export Association, LLC, 4800 Sisk Road, Modesto, California 95356.

Contact: Doug Youngdahl, Chairman, Telephone: (916) 446-8595.

Application No.: 99-2A005.

Date Deemed Submitted: March 23, 2004.

Proposed Amendment: California Almond Export Association, LLC seeks to amend its Certificate to:

1. Add each of the following companies as a new “Member” of the Certificate within the meaning of section 325.2(1) of the Regulations (15 CFR 325.2(1)): Nutco, LLC doing business as Spycher Brothers, Turlock, California; and Treehouse California Almonds, LLC, Los Angeles, California;

2. Change the listing of the following Members: “A&P Growers Cooperative, Inc., Tulare, California” to the new listing “A&P Growers Cooperative, Inc., Clovis, California”; “Del Rio Nut Company, Livingston, California” to the new listing “Del Rio Nut Company, Inc., Livingston, California”; “Hilltop Ranch, Ballico, California” to the new listing “Hilltop Ranch, Inc., Ballico, California”; “Hughson Nut Company, Hughson, California” to the new listing “Hughson Nut, Inc., Hughson, California”; and “Minturn Nut Company, LeGrand, California” to the new listing “Minturn Nut Company, Inc., LeGrand, California”; and

3. Delete the following companies as “Members” of the Certificate: Calcot, Ltd., Bakersfield, California; California Independent Almond Growers, Ballico, California; and Kindle Nut Company, Denair, California.

Dated: March 30, 2004.
Jeffrey C. Anspacher,
Director, Office of Export Trading, Company Affairs.

[FR Doc. 04-7605 Filed 4-2-04; 8:45 am]

BILLING CODE 3510-DR-P